FEDERAL DEPOSIT INSURANCE CORPORATION

12 CFR Parts 335 and 390

RIN 3064-AE07

Transferred OTS Regulations Regarding Securities of State Savings Associations

AGENCY: Federal Deposit Insurance Corporation.

ACTION: Final rule; correction.

SUMMARY: The FDIC is correcting a final rule that appeared in the Federal Register of October 24, 2014 (79 FR 63498), regarding Transferred OTS Regulations Regarding Securities of State Savings Associations. This publication corrects a typographical error in the Paperwork Reduction Act statement in the Regulatory Analysis and Procedure section.

DATES: The correction is effective November 24, 2014.

FOR FURTHER INFORMATION CONTACT: Dennis Chapman, Senior Staff Accountant, Division of Risk Management Supervision, 202-898-8922 or dchapman@fdic.gov; Maureen Loviglio, Senior Staff Accountant, Division of Risk Management Supervision, 202-898-6777 or mloviglio@fdic.gov; Mark G. Flanigan, Supervisory Counsel, Legal Division 202-898-7426 or mflanigan@fdic.gov; or Grace Pyun, Senior Attorney, Legal Division 202-898-3609 or gpyun@fdic.gov.

SUPPLEMENTARY INFORMATION: In FR Doc. 2014-25336, appearing on page 63499 in the Federal Register of October 24, 2014, in the third column under section V. A., the paragraphs “Title” through “Total Estimated Annual Burden” are revised to read as follows:

Title: Securities of State Nonmember Banks and State Savings Associations.

OMB Number: 3064-0030.

Form Numbers: 6800/03, 6800/04, 6800/05, Form 8-A, Form 8-C, Form 8-K, Form 10, Form 10-C, Form 10-K, Form 10-Q, Form 12b-25, Form 15, Form 25, Schedule 13D, Schedule 13E-3, Schedule 13G, Schedule 14A, Schedule 14C, Schedule 14D-1 (Schedule TO).

Affected Public: Generally, any issuer of securities, reporting company, or shareholder of an issuer registered under the Securities Exchange Act of 1934 with respect to securities registered under 12 CFR part 335.

Estimated Number of Respondents: Form 6800/03—58; Form 6800/04—297; Form 6800/05—69; Form 8-A—2; Form 8-C—2; Form 8-K—21; Form 10—2; Form 10-C—1; Form 10-K—21; Form 10-Q—21, Form 12b-25—6; Form 15—2; Form 25—2; Schedule 13D—2; Schedule 13E-3—2; Schedule 13G—2; Schedule 14A—21; Schedule 14C—2; Schedule 14D-1 (Schedule TO)—2.

Estimated Time per Response: Form 6800/03—1 hour; Form 6800/04—30 minutes; Form 6800/05—1 hour; Form 8-A—3 hours; Form 8-C—2 hours; Form 8-K—2 hours; Form 10—215 hours; Form 10-C—1 hour; Form 10-K—140 hours; Form 10-Q—100 hours; Form 12b-25—3 hours; Form 15—1 hours; Form 25—1 hours; Schedule 13D—3 hours; Schedule 13E-3—3 hours; Schedule 13G—3 hours; Schedule 14A—40 hours; Schedule 14C—40 hours; Schedule 14D-1 (Schedule TO)—5 hours.

Frequency of Response: Forms 6800/05 and 10-K and Schedule 14A are filed annually. Form 10-Q is filed quarterly. All other forms are filed based on each event or transaction.

Existing annual burden: 717 hours.

New estimated additional annual burden: 10,829 hours.

Total Estimated Annual Burden: 11,546 hours.

Dated at Washington, DC, this 27th day of October, 2014.
Federal Deposit Insurance Corporation.
Robert E. Feldman,
Executive Secretary.

[FR Doc. 2014-25842 Filed 10-29-14; 8:45 am]

BILLING CODE 6714-01-P